DEPARTMENT OF LABOR

Employment and Training Administration

[TA-W-37,304 and NAFTA-3683]

Nova Bus, Inc., Transit Bus Division, Roswell, New Mexico; Dismissal of Application for Reconsideration

Pursuant to 29 CFR 90.18(C) an application for administrative reconsideration was filed with the Director of the Division of Trade Adjustment Assistance for workers at Nova Bus, Inc., Transit Bus Division, Roswell, New Mexico. The application contained no new substantial information which would bear importantly on the Department's determination. Therefore, dismissal of the application was issued.

TA-W-37,304 and NAFTA-3683; Nova Bus, Inc., Transit Bus Div., Roswell, New Mexico (August 8, 2000)

Signed at Washington, DC, this 23rd day of August, 2000.
Edward A. Tomchick,
Director, Division of Trade Adjustment Assistance.

[FR Doc. 00-22324 Filed 8-30-00; 8:45 am]

BILLING CODE 4510-30-U